SECURITIES AND EXCHANGE COMMISSION

[File No. 500-1]

Atomic Burrito, Inc., Earthcare Co., Global Concepts, Ltd., New York Bagel Enterprises, Inc., Precept Business Services, Inc., Reorganized Sale OKWD, Inc., Villageworld.com, Inc. (n/k/a Biometrics 2000 Corp.), and Wireless Webconnect!, Inc.; Order of Suspension of Trading

August 19, 2008.

It appears to the Securities and Exchange Commission that there is a lack of current and accurate information concerning the securities of Atomic Burrito, Inc. because it has not filed any periodic reports since the period ended September 30, 2001.

It appears to the Securities and Exchange Commission that there is a lack of current and accurate information concerning the securities of Earthcare Co. because it has not filed any periodic reports since the period ended September 30, 2001.

It appears to the Securities and Exchange Commission that there is a lack of current and accurate information concerning the securities of Global Concepts, Ltd. because it has not filed any periodic reports since the period ended June 30, 2005.

It appears to the Securities and Exchange Commission that there is a lack of current and accurate information concerning the securities of New York Bagel Enterprises, Inc. because it has not filed any periodic reports since the period ended September 29, 1999.

It appears to the Securities and Exchange Commission that there is a lack of current and accurate information concerning the securities of Precept Business Services, Inc. because it has not filed any periodic reports since the period ended March 31, 2000.

It appears to the Securities and Exchange Commission that there is a lack of current and accurate information concerning the securities of Reorganized Sale OKWD, Inc. because it has not filed any periodic reports since the period ended December 31, 2003.

It appears to the Securities and Exchange Commission that there is a lack of current and accurate information concerning the securities of Villageworld.com, Inc. (n/k/a Biometrics 2000 Corp.) because it has not filed any periodic reports since the period ended September 30, 2004.

It appears to the Securities and Exchange Commission that there is a lack of current and accurate information concerning the securities of Wireless Webconnect!, Inc. because it has not filed any periodic reports since the period ended March 31, 2002.

The Commission is of the opinion that the public interest and the protection of investors require a suspension of trading in the securities of the above-listed companies.

Therefore, it is ordered, pursuant to Section 12(k) of the Securities Exchange Act of 1934, that trading in Atomic Burrito, Inc., Earthcare Co., Global Concepts, Ltd., New York Bagel Enterprises, Inc., Precept Business Services, Inc., Reorganized Sale OKWD, Inc., Villageworld.com Inc. (n/k/a Biometrics 2000 Corp.) and Wireless Webconnect!, Inc. is suspended for the period from 9:30 a.m. EDT on August 19, 2008, through 11:59 p.m. EDT on September 2, 2008.

By the Commission.
Jill M. Peterson,
Assistant Secretary.

[FR Doc. E8-19494 Filed 8-19-08; 11:15 am]

BILLING CODE 8010-01-P